FEDERAL RESERVE SYSTEM

[Docket No. OP-1640 ]

Regulation Q; Regulatory Capital Rules: Risk-Based Capital Surcharges for Global Systemically Important Bank Holding Companies

AGENCY: Board of Governors of the Federal Reserve System (Board).

ACTION: Notice.

SUMMARY: The Board is providing notice of the aggregate global indicator amounts for purposes of a calculation for 2018, which is required under the Board's rule regarding risk-based capital surcharges for global systemically important bank holding companies (GSIB surcharge rule).

DATES: Applicable: December 12, 2018.

FOR FURTHER INFORMATION CONTACT: Elizabeth MacDonald, Manager, (202) 475-6316, or Sean Healey, Supervisory Financial Analyst, (202) 912-4611, Division of Supervision and Regulation; or Mark Buresh, Counsel, (202) 452-5270, or Mary Watkins, Senior Attorney, (202) 452-3722, Legal Division. Board of Governors of the Federal Reserve System, 20th and C Streets NW, Washington, DC 20551. For the hearing impaired only, Telecommunications Device for the Deaf (TDD) users may contact (202) 263-4869.

SUPPLEMENTARY INFORMATION: The Board's GSIB surcharge rule establishes a methodology to identify global systemically important bank holding companies in the United States (GSIBs) based on indicators that are correlated with systemic importance.¹ Under the GSIB surcharge rule, a firm must calculate its GSIB score using a specific formula (Method 1). Method 1 uses five equally weighted categories that are correlated with systemic importance—size, interconnectedness, cross-jurisdictional activity, substitutability, and complexity—and subdivided into twelve systemic indicators. For each indicator, a firm divides its own measure of each systemic indicator by an aggregate global indicator amount. The firm's Method 1 score is the sum of its weighted systemic indicator scores expressed in basis points. The GSIB surcharge for the firm is then the higher of the GSIB surcharge determined under Method 1 and a second method that weights size, interconnectedness, cross-jurisdictional activity, complexity, and a measure of a firm's reliance on wholesale funding (instead of substitutability).²

¹ See 12 CFR 217.402, 217.404.

² The second method (Method 2) uses similar inputs to those used in Method 1, but replaces the substitutability category with a measure of a firm's use of short-term wholesale funding. In addition, Method 2 is calibrated differently from Method 1.

The aggregate global indicator amounts used in the score calculation under Method 1 are based on data collected by the Basel Committee on Banking Supervision (BCBS). The BCBS amounts are determined based on the sum of the systemic indicator scores of the 75 largest U.S. and foreign banking organizations as measured by the BCBS, and any other banking organization that the BCBS includes in its sample total for that year. The BCBS publicly releases these values, denominated in euros, each year. Pursuant to the GSIB surcharge rule, the Board publishes the aggregate global indicator amounts each year as denominated in U.S. dollars using the euro-dollar exchange rate provided by the BCBS.³ Specifically, the Board multiplied each of the euro-denominated indicator amounts made publicly available by the BCBS by 1.1993, which was the daily euro to U.S. dollar spot rate on December 29, 2017, as published by the European Central Bank (available at http://www.ecb.europa.eu/stats/eurofxref/index.en.html).

³ 12 CFR 217.404(b)(1)(i)(B); 80 FR 49082, 49086-87 (August 14, 2015). In addition, the Board maintains the GSIB Framework Denominators on its website, available at https://www.federalreserve.gov/bankinforeg/basel/denominators.htm.

The aggregate global indicator amounts for purposes of the 2018 Method 1 score calculation under § 217.404(b)(1)(i)(B) of the GSIB surcharge rule are:

Aggregate Global Indicator Amounts in U.S. Dollars (USD) for 2018
Category | Systemic indicator | Aggregate global indicator amount (in USD)
Size | Total exposures | 87,573,483,134,570
Interconnectedness | Intra-financial system assets | 8,318,335,066,526
| Intra-financial system liabilities | 9,730,031,597,197
| Securities outstanding | 16,202,976,535,511
Substitutability | Payments activity | 2,448,767,065,374,350
| Assets under custody | 171,019,921,278,856
| Underwritten transactions in debt and equity markets | 7,116,528,205,923
Complexity | Notional amount of over-the-counter (OTC) derivatives | 602,822,111,266,476
| Trading and available-for-sale (AFS) securities | 3,934,397,357,213
| Level 3 assets | 464,078,515,309
Cross-jurisdictional activity | Cross-jurisdictional claims | 21,836,288,121,267
| Cross-jurisdictional liabilities | 19,161,780,782,485

Authority: 12 U.S.C. 248(a), 321-338a, 481-486, 1462a, 1467a, 1818, 1828, 1831n, 1831o, 1831p-l, 1831w, 1835, 1844(b), 1851, 3904, 3906-3909, 4808, 5365, 5368, 5371.

By order of the Board of Governors of the Federal Reserve System, December 6, 2018.
Ann Misback,
Secretary of the Board.

[FR Doc. 2018-26850 Filed 12-11-18; 8:45 am]

BILLING CODE P